DEPARTMENT OF TRANSPORTATION

Federal Aviation Administration

[Docket No. FAA-2021-0486]

Agency Information Collection Activities: Requests for Comments; Clearance of a Renewed Approval of Information Collection: Safety Assurance System (SAS) External Portal

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 16, 2021. The collection involves the use of the SAS external portal which is a web-based tool developed for applicants and certificate holders (also referred to as external users) to exchange information with Flight Standards (FS) employees. The information to be collected will be used to collaborate and communicate with their FS counterparts regarding initial certification applications, and requesting new programs for acceptance and approval.

DATES: Written comments should be submitted by May 5, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Wendy Johnson by email at: Wendy.Johnson@faa.gov; phone 571-421-4110.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0774.

Title: Safety Assurance System (SAS) External Portal.

Form Numbers: List of the following web-based forms:

• Submitting a Preapplication Statement of Intent (PASI) Form (FAA Form 8400-6) (14 CFR parts 121, 135 and 141);

• Submitting an Application for Repair Station (FAA Form 8310-3) (14 CFR part 145);

• Submitting an Application for Aviation Maintenance School Certificate and Ratings Application (FAA Form 8310-6) (14 CFR part 147)

Type of Review: Renewal of an information collection.

Background: The Federal Register Notice with a 60-day comment period soliciting comments on the following collection of information was published on July 16, 2021 (FR 2021-0486). The SAS external portal is a web-based tool developed for applicants and certificate holders (also referred to as external users) to exchange information with Flight Standards (FS) employees, primarily the Certification Project Managers (CPMs), Principal Inspectors (PIs) and Training Center Program Managers (TCPMs). SAS external portal creates the ability for our external users to collaborate and communicate with their FS counterparts in the execution of the following functions:

• Submitting a Preapplication Statement of Intent (PASI) Form (FAA Form 8400-6) (14 CFR parts 121, 135 and 141);

• Submitting an Application for Repair Station (FAA Form 8310-3) (14 CFR part 145);

• Submitting an Application for Aviation Maintenance School Certificate and Ratings Application (FAA Form 8310-6) (14 CFR part 147);

• Submitting a Letter of Intent (14 CFR part 142);

• Submitting Element Design (ED) data collection tools (DCTs); and,

• Sharing of other documentation as needed.

Benefits to the certificate holder or applicant to use the external portal include:

• Ease of submission and expedited processing and tracking of documents/requests;

• Documents/requests are sent directly to the FS employees, which eliminates wait time for the entry of information by the PI/CPM; and,

• Access to DCTs.

Respondents: Applicant respondents—922. Certificate Holder respondents—7892.

Frequency: On occasion.

Estimated Average Burden per Response: Applicant respondents—135 hours. Certificate Holder respondents—90 hours.

Estimated Total Annual Burden: Applicants $7,027,935. Certificate Holders $40,104,456.

Issued in Minneapolis, MN on March 30, 2022.
Wendy I Johnson,
Assistant Program Office Manager, System Approach for Safety Oversight (SASO) Program Office, AFS-910.

[FR Doc. 2022-07082 Filed 4-4-22; 8:45 am]

BILLING CODE 4910-13-P